DEPARTMENT OF JUSTICE

Antitrust Division

Notice Pursuant to the National Cooperative Research and Production Act of 1993—OPENGMSL ASSOCIATION

Notice is hereby given that, on June 30, 2025, pursuant to section 6(a) of the National Cooperative Research and Production Act of 1993, 15 U.S.C. 4301 et seq. (“the Act”), OpenGMSL Association (“OpenGMSL”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Aptiv, Warren, OH; Coilcraft, Cary, IL; indie, Aliso Viejo, CA; Denso Corporation, Aichi, JAPAN; Ethernovia, Inc., San Jose, CA; GlobalFoundries U.S. Inc., Malta, NY; Keysight Technologies, Santa Rosa, CA; Rohde & Schwarz GmbH & Co. KG, Munich, FEDERAL REPUBLIC OF GERMANY; Rosenberger Hochfrequenztechnik GmbH & Co.KG, Fridolfing, FEDERAL REPUBLIC OF GERMANY; TZ Electronic Systems GmbH, Niefern-Oeschelbronn, FEDERAL REPUBLIC OF GERMANY; Analog Devices Inc., Wilmington, MA; Granite River Labs, Santa Clara, CA; Qualcomm Incorporated, San Diego, CA; and Sony Semiconductor Solutions Corporation, Atsugi, JAPAN. The general areas of OpenGMSL's planned activity are to (a) establish Gigabit Multimedia Serial Link, known as “GMSL” technology, as a worldwide standard for SerDes transmission of video and/or data; (b) establish and maintain compatibility of GMSL and its iterative standards, including GMSL2 and GMSL3 for ease of adoption; (c) collaborate on continuous improvement for GMSL capabilities to best serve video and data link markets globally; (d) leverage these technologies to other industries, at the discretion of the Board of Directors; and (e) undertake such other activities as may from time to time be appropriate to further the purposes and achieve the goals set forth above. Membership in OPENGMSL remains open and OPENGMSL intends to file additional written notifications disclosing all changes in membership.

Suzanne Morris,
Deputy Director of Civil Enforcement Operations, Antitrust Division.

[FR Doc. 2025-15371 Filed 8-12-25; 8:45 am]

BILLING CODE P